DEPARTMENT OF HOMELAND SECURITY

Coast Guard

33 CFR Part 117

[CGD07-04-039]

Drawbridge Operation Regulations; Royal Park (SR 704) Bridge, Atlantic Intracoastal Waterway Mile 1022.6, Palm Beach, FL

AGENCY: Coast Guard, DHS.

ACTION: Notice of temporary deviation from regulations.

SUMMARY: The Commander, Seventh Coast Guard District, has approved a temporary deviation from the regulations governing the operation of the Royal Park (SR 704) Bridge across the Atlantic Intracoastal Waterway, mile 1022.6, Palm Beach, Florida. This deviation allows for bridge closures during certain times due to bridge alignment of the new spans.

DATES: This deviation is effective from 7 a.m. on April 15, 2004, until 5 p.m. on May 29, 2004.

ADDRESSES: Material received from the public, as well as documents indicated in this preamble as being available in the docket [CGD07-04-039] will become part of this docket and will be available for inspection or copying at Commander (obr), Seventh Coast Guard District, 909 SE. 1st Avenue, Miami, Florida 33131-3050 between 7:30 a.m. and 4 p.m., Monday through Friday, except Federal Holidays.

FOR FURTHER INFORMATION CONTACT: Mr. Barry Dragon, Project Officer, Seventh Coast Guard District, Bridge Branch at (305) 415-6744.

SUPPLEMENTARY INFORMATION: The Royal Palm (SR 704) Bridge across the Atlantic Intracoastal Waterway, mile 1022.6, Palm Beach, Florida, is a new double-leaf bascule bridge with a vertical clearance of 25 feet above mean high water (MHW) measured at the fenders in the closed position with a horizontal clearance of 125 feet. The current operating regulation in 33 CFR 117.261(v) requires that the Royal Park (SR 704) Bridge, mile 1022.6 at Palm Beach, shall open on signal, except that from October 1 through May 31, Monday through Friday, except Federal holidays, from 7:45 a.m. to 9:45 a.m. and from 3:30 p.m. to 5:45 p.m., the draw need open only at 8:45 a.m., 4:30 p.m., and 5:15 p.m., and from 9:30 a.m. to 3:30 p.m., the draw need open only on the quarter-hour and three-quarter hour.

On March 2, 2004, the bridge owner, Florida Department of Transportation, requested a deviation from the current operating regulations to allow the owner and operator to close the bridge during certain times. On March 10, 2004, a meeting was held to determine an operating schedule for both the temporary bridge and the new bridge that would not unreasonably restrict navigation and allow for workers' safety during alignment of the new bridge. On April 2, 2004, this office received a revised schedule. Based on this paperwork, the following operating schedule has been approved:

From April 15 to April 20, 2004 the bridge will remain closed to navigation from 7:01 a.m. to 12:59 p.m. and 2:01 p.m. to 5:59 p.m. daily. From April 21 to May 16, 2004, from 7 a.m. to 5 p.m. daily, the bridge will only open at 7 a.m., 8:30 a.m., 10 a.m., 11:30 a.m., 1 p.m., 2:30 p.m., 4 p.m. and 5 p.m. On May 17, 2004, the bridge will remain closed to navigation from 9 a.m. to 5 p.m. From May 18 to May 22, 2004, the bridge will remain closed to navigation from 7:01 a.m. to 12:59 p.m. and 2:01 p.m. to 5:59 p.m. daily.

From May 24 to May 29, 2004, from 7 a.m. to 5 p.m. daily, the bridge will only open at 7 a.m., 8:30 a.m., 10 a.m., 11:30 a.m., 1 p.m., 2:30 p.m., 4 p.m. and 5 p.m. This deviation is necessary to ensure workers' safety during the alignment of the bridge. The Commander, Seventh Coast Guard District has granted a temporary deviation from the operating requirements listed in 33 CFR 117.261(v) to complete the alignment of the new bridge leafs. Under this deviation, both the temporary Royal Park Bridge and the new Royal Park bridge (SR 704), Atlantic Intracoastal Waterway mile 1022.6, Palm Beach, Florida, shall remain closed to navigation from April 15 to April 20, 2004, from 7:01 a.m. to 12:59 p.m. and 2:01 p.m. to 5:59 p.m. daily. From April 21 to May 16, 2004, from 7 a.m. to 5 p.m., the bridges will only open at 7 a.m., 8:30 a.m., 10 a.m., 11:30 a.m., 1 p.m., 2:30 p.m., 4 p.m. and 5 p.m. On May 17, 2004, the bridges will remain closed to navigation from 9 a.m. to 5 p.m. From May 18 to May 22, 2004, the bridges shall remain closed to navigation from 7:01 a.m. to 12:59 p.m. and 2:01 p.m. to 5:59 p.m. daily. From May 24 to May 29, 2004, from 7 a.m. to 5 p.m., the bridges will only open at 7 a.m., 8:30 a.m., 10 a.m., 11:30 a.m., 1 p.m., 2:30 p.m., 4 p.m. and 5 p.m. At all other times, the bridges shall open on signal, except Monday through Friday, except Federal holidays, from 7:45 a.m. to 9:45 a.m. and from 3:30 p.m. to 5:45 p.m., the draw need open only at 8:45 a.m., 4:30 p.m., and 5:15 p.m., and, from 9:30 a.m. to 3:30 p.m., the draw need open only on the quarter-hour and three-quarter hour.

Dated: April 9, 2004.
Greg Shapley,
Chief, Bridge Administration, Seventh Coast Guard District.

[FR Doc. 04-8863 Filed 4-19-04; 8:45 am]

BILLING CODE 4910-15-P